DEPARTMENT OF THE TREASURY

Submission for OMB Review; Comment Request

February 17, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 28, 2005.

Alcohol and Tobacco Tax and Trade Bureau (TTB)

OMB Number: 1513-0062.

Form Number: TTB REC 5150/1.

Type of Review: Extension.

Title: Usual and Customary Business Records Relating to Denatured Spirits.

Description: Denatured Spirits are used for nonbeverage industrial purposes in the manufacture of personal household products. Records ensure spirits accountability. Tax revenue and public safety are protected.

Respondents: Business of other for-profit, State, Local or Tribal Government.

Estimated Number of Recordkeepers: 3,111.

Estimated Burden Hours Per Recordkeeper: 0 hours.

Frequency of Response: On occasion.

Estimated Total Recordkeeping Burden: 1 hour.

OMB Number: 1513-0069.

Form Number: TTB REC 5210/6.

Type of Review: Extension.

Title: Tobacco Products Manufacturers—Supporting Records for Removals for the Use of the United States.

Description: Used by tobacco products manufacturers to record removals of tobacco products for use of the United States. Used by TTB to verify that removals were tax exempt. Records are needed to trace transactions for protection of the revenue.

Respondents: Business of other for-profit.

Estimated Number of Recordkeepers: 101.

Estimated Burden Hours Per Recordkeeper: 5 hours.

Frequency of Response: On occasion.

Estimated Total Recordkeeping Burden: 505 hours.

Clearance Officer: William H. Foster, (202) 927-8210, Alcohol and Tobacco Tax and Trade Bureau, Room 200 East, 1310 G. Street, NW., Washington, DC 20005.

OMB Reviewer: Joseph F. Lackey, Jr., (202) 395-7316, Office of Management and Budget, Room 10235, New Executive Office Building, Washington, DC 20503.

Lois K. Holland,
Treasury PRA Clearance Officer.

[FR Doc. 05-3652 Filed 2-24-05; 8:45 am]

BILLING CODE 4810-31-P